DEPARTMENT OF HEALTH AND HUMAN SERVICES

Centers for Medicare & Medicaid Services

[Document Identifiers: CMS-1572 and CMS-10633]

Agency Information Collection Activities: Submission for OMB Review; Comment Request

AGENCY: Centers for Medicare & Medicaid Services, HHS.

ACTION: Notice.

SUMMARY: The Centers for Medicare & Medicaid Services (CMS) is announcing an opportunity for the public to comment on CMS' intention to collect information from the public. Under the Paperwork Reduction Act of 1995 (PRA), federal agencies are required to publish notice in the Federal Register concerning each proposed collection of information, including each proposed extension or reinstatement of an existing collection of information, and to allow a second opportunity for public comment on the notice. Interested persons are invited to send comments regarding the burden estimate or any other aspect of this collection of information, including the necessity and utility of the proposed information collection for the proper performance of the agency's functions, the accuracy of the estimated burden, ways to enhance the quality, utility, and clarity of the information to be collected; and the use of automated collection techniques or other forms of information technology to minimize the information collection burden.

DATES: Comments on the collection(s) of information must be received by the OMB desk officer by July 3, 2017.

ADDRESSES: When commenting on the proposed information collections, please reference the document identifier or OMB control number. To be assured consideration, comments and recommendations must be received by the OMB desk officer via one of the following transmissions: OMB, Office of Information and Regulatory Affairs, Attention: CMS Desk Officer, Fax Number: (202) 395-5806 OR Email: OIRA_submission@omb.eop.gov.

To obtain copies of a supporting statement and any related forms for the proposed collection(s) summarized in this notice, you may make your request using one of following:

1. Access CMS' Web site address at Web site address at https://www.cms.gov/Regulations-and-Guidance/Legislation/PaperworkReductionActof1995/PRA-Listing.html.

2. Email your request, including your address, phone number, OMB number, and CMS document identifier, to Paperwork@cms.hhs.gov.

3. Call the Reports Clearance Office at (410) 786-1326.

FOR FURTHER INFORMATION CONTACT: William Parham at (410) 786-4669.

SUPPLEMENTARY INFORMATION: Under the Paperwork Reduction Act of 1995 (PRA) (44 U.S.C. 3501-3520), federal agencies must obtain approval from the Office of Management and Budget (OMB) for each collection of information they conduct or sponsor. The term “collection of information” is defined in 44 U.S.C. 3502(3) and 5 CFR 1320.3(c) and includes agency requests or requirements that members of the public submit reports, keep records, or provide information to a third party. Section 3506(c)(2)(A) of the PRA (44 U.S.C. 3506(c)(2)(A)) requires federal agencies to publish a 30-day notice in the Federal Register concerning each proposed collection of information, including each proposed extension or reinstatement of an existing collection of information, before submitting the collection to OMB for approval. To comply with this requirement, CMS is publishing this notice that summarizes the following proposed collection(s) of information for public comment:

1. Type of Information Collection Request: Reinstatement without change of a previously collection; Title of Information Collection: Home Health Agency Survey and Deficiencies Report; Use: In order to participate in the Medicare Program as a Home Health Agency (HHA) provider, the HHA must meet federal standards. This form is used to record information and patients' health and provider compliance with requirements and to report the information to the federal government. Form Number: CMS-1572 (OMB Control Number: 0938-0355); Frequency: Yearly; Affected Public: State, Local or Tribal Government; Number of Respondents: 3,830; Total Annual Responses: 3,830; Total Annual Hours: 849. (For policy questions regarding this collection contact Sarah Fahrendorf at 410-786-3112.)

2. Type of Information Collection Request: New Collection (Request for a new OMB control number); Title of Information Collection: QIC Demonstration Evaluation Contractor (QDEC): Analyze Medicare Appeals to Conduct Formal Discussions and Reopenings with Suppliers; Use: The Formal Telephone Discussions Demonstration is designed to improve the efficiency of Medicare's five-level appeals system for fee-for-service (FFS) claims, which currently is experiencing a backlog. In the Demonstration, the Qualified Independent Contractor (QIC) provides education through a formal telephone discussion process to improve suppliers' understanding of the reasons for claim denials, and ultimately improve the quality of future claims submissions. CMS is interested in determining whether engagement between suppliers and the QIC will improve the understanding of the cause of Level 2 appeal denials, and over time, whether this results in increased submission of accurate and complete claims at the Medicare Administrative Contractor (MAC) level. The evaluation of the Demonstration will use both quantitative and qualitative techniques to analyze the outcomes and impact of the Demonstration. Claims analysis, a web-based supplier survey, and supplier key informant interviews will inform the evaluation, and: (1) Focus specifically on outcomes including supplier satisfaction with the discussions, the rate of claims denials, and the number of claims that go through appeals Levels 2 and 3; (2) seek to determine whether further engagement between suppliers and the QIC improves understanding of the reasons for claim denials; and (3) support CMS in assessing the QIC's effectiveness in meeting a number of criteria established by CMS, including how satisfied participating suppliers were with the formal telephone discussion process. Form Number: CMS-10633 (OMB control number: 0938-NEW); Frequency: Monthly; Affected Public: Private Sector Business or other for-profits, Not-for-Profit Institutions; Number of Respondents: 10,560; Total Annual Responses: 2,640; Total Annual Hours: 473.3. (For policy questions regarding this collection contact Lynnsie Doty at 410-786-2175.)

Dated: May 30, 2017.
William N. Parham, III,
Director, Paperwork Reduction Staff, Office of Strategic Operations and Regulatory Affairs.

[FR Doc. 2017-11428 Filed 6-1-17; 8:45 am]

BILLING CODE 4120-01-P